NATIONAL AERONAUTICS AND SPACE ADMINISTRATION

[Notice: 24-057]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held specifically to discuss reporting under the Government Performance and Results Act Modernization Act (GPRAMA).

DATES: Friday, September 20, 2024, 12:00 p.m.-3:00 p.m. eastern time.

ADDRESSES: Virtual meeting via WebEx only.

FOR FURTHER INFORMATION CONTACT: Ms. KarShelia Kinard, Science Mission Directorate, NASA Headquarters, Washington, DC 20546, (202) 358-2355 or karshelia.kinard@nasa.gov.

SUPPLEMENTARY INFORMATION: As noted above, the meeting will be available to the public via WebEx only. The meeting event address for attendees is: https://nasaevents.webex.com/nasaevents/j.php?MTID=m636ac9f4c2cdc0dd0cef8d34d158c3a5. The Webinar number is 2830 953 3722 and the password is 3hYpfBRGT73 (34973274 when dialing from a phone or video system). To join by telephone, call: 312-500-3163 United States Toll (Chicago) or 415-527-5035 United States Toll; Access code: 283 095 33722

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov. The agenda for the meeting will include reporting under the Government Performance and Results Act Modernization Act (GPRAMA) for NASA's Planetary Science Division.

It is imperative that the meeting be held on these dates to accommodate the scheduling priorities of the key participants.

For more information, please visit https://science.nasa.gov/researchers/nac/science-advisory-committees/pac/.

Jamie M. Krauk,
Advisory Committee Management Officer. National Aeronautics and Space Administration.

[FR Doc. 2024-19241 Filed 8-26-24; 8:45 am]

BILLING CODE 7510-13-P